DEPARTMENT OF THE INTERIOR

National Park Service

National Register of Historic Places; Notification of Pending Nominations

Nominations for the following properties being considered for listing in the National Register were received by the National Park Service before January 29, 2000. Pursuant to section 60.13 of 36 CFR Part 60 written comments concerning the significance of these properties under the National Register criteria for evaluation may be forwarded to the National Register, National Park Service, 1849 C St. NW, NC400, Washington, DC 20240. Written comments should be submitted by February 23, 2000.

Patrick W. Andrus,
Acting Keeper of the National Register.

ALABAMA

Blount County

Grififth, Robert G., Sr., House, 1204 Cty. Rd. 25, Summit, 00000143

Clarke County

Airmount Grave Shelter (Clarke County MPS), N side of AL 5, 0.5 mi. W of Cty Line, Thomasville, 00000142

McClellan, Doit W., Lustron House (Lustron Houses in Alabama, MPS), 116 W. Pearl St., Jackson, 00000136

McKee, J.P., Lustron House (Lustron Houses in Alabama, MPS), 519 College Ave., Jackson, 00000132

Nettles, Isaac, Gravestones (Clarke County MPS), E side Mt Nebo Rd., 0.5 mi. S of Cty Rd. 19, Carlton, 00000141

Colbert County

Newman, E.L., Lustron House (Lustron Houses in Alabama, MPS), 1406 34th St., Sheffield, 00000134

Jefferson County

Gleissner, John D. and Katherine, Lustron House (Lustron Houses in Alabama, MPS), 2420 Cahaba Rd., Birmingham, 00000133

Lustron House on Columbiana Road (Lustron Houses in Alabama, MPS), 430 Columbiana Rd., Birmingham, 00000131

Wright, Bernice L., Lustron House, (Lustron Houses in Alabama, MPS) 2424 Cahaba Rd., Birmingham, 00000130

Lauderdale County

Bowen, William, Lustron House, (Lustron Houses in Alabama, MPS) 1145 Wildwood Park Rd., Florence, 00000135

Darby, E. H., Lustron House, (Lustron Houses in Alabama, MPS) 321 Beverly, Florence, 00000127

Forks of Cypress Cemetery, 0.25 mi. N of Jackson Rd., E side of Dowdy Rd., N of Little Cypress Creek, Florence vicinity, 00000140

Madison County

Jude, George, House, 2132 Winchester Rd., Huntsville, 00000139

Montgomery County

Huntingdon College Campus Historic District, 1500 E. Fairview Ave., Montgomery, 00000138

Perry County

Uniontown Historic District, Roughly bounded by Tomasene St., Taylor St., East Ave., and Green St., Uniontown, 00000137

Tuscaloosa County

Quayle, Margaret, Lustron House, (Lustron Houses in Alabama, MPS) 27 Parkview Dr., Tuscaloosa, 00000126

ALASKA

Juneau Borough-Census Area

MacKinnon Apartments, 236 Third St., Juneau, 00000144

ARIZONA

Maricopa County

Ross, John M., House, 6722 N. Central Ave., Phoenix, 00000145

MASSACHUSETTS

Worcester County

Warren Public Library, Main St. at Bacon St., Warren, 00000146

MISSOURI

St. Louis Independent City

Jewel Box, Jct. of Wells Dr. and McKinley Dr., Forest Park, St. Louis, 00000147

MONTANA

Blaine County

Lodgepole Community Hall, Fort Belknap Indian Community, Lodgepole, 00000148

A request for REMOVAL has been made for the following resource:

PENNSYLVANIA

Greene County

Kent, Thomas, Jr., Farm 208 Laurel Run Rd., Waynesburg, 98000444

[FR Doc. 00-2745 Filed 2-7-00; 8:45 am]

BILLING CODE 4310-70-P